DEPARTMENT OF TRANSPORTATION

Federal Aviation Administration

RTCA Special Committee 202: Portable Electronic Devices

AGENCY: Federal Aviation Administration (FAA), DOT.

ACTION: Notice of RTCA Special Committee 202 Meeting: Portable Electronic Devices.

SUMMARY: The FAA is issuing this notice to advise the public of a meeting of RTCA Special Committee 202: Portable Electronic Devices.

DATES: The meeting will be held on April 17-19, 2007, from 9 a.m. to 4:30 p.m. (unless stated otherwise).

ADDRESSES: The meeting will be held at Conference Rooms, 1828 L Street, NW., Suite 805, Washington, DC 20036.

FOR FURTHER INFORMATION CONTACT: RTCA Secretariat, 1828 L Street, NW., Suite 805, Washington, DC 20036-5133; telephone (202) 833-9339; fax (202) 833-9434; Web site http://www.rtca.org.

Primary Purpose of Meeting: The plenary is to review initial draft materials for the Recommended Guidance for Airplane Design and Certification document, leading to committee consensus on a draft for Final Review and Comment (FRAC). The committee will also consider plans for coordination and implementation of its recommendation on T-PED spurious emissions. Working group sessions are on Tuesday and Thursday afternoon. Plenary Sessions are Wednesday and Thursday.

SUPPLEMENTARY INFORMATION: Pursuant to section 10(a)(2) of the Federal Advisory Committee Act (Pub. L. 92-463, 5 U.S.C., Appendix 2), notice is hereby given for a Special Committee 202 Portable Electronic Devices meeting. The agenda will include:

• April 17:

• Chairmen's Strategy Session—MacIntosh-NBAA & Hilton-ATA Rooms

• Progress and Status Update, Overall Review of Plan and Schedule for Document Completion, recommendations coordination and implementation

• Working Group 5 Kickoff and Coordination—MacIntosh-NBAA & Hilton-ATA Rooms

• Working Groups Sessions

• Working Group 5 Overall DO-YYY Document—MacIntosh-NBAA & Hilton-ATA Rooms

• Working Group 6: PED Spurious Emissions Recommendations—ARINC Conference Room

• Sub Group on PED Statistical Analysis and Characterization—Small Conference Room

• Sub Group on IPL Test—Colson Board Room

• Sub Group on Certification Aspects—Garmin Room

• Chairmen's Strategy Session

• Coordinate Recommendations to Plenary: Plan and Schedule for Remaining Committee Work.

• April 18 and 19:

• Opening Plenary Session (Welcome and Introductory Remarks, Review Agenda, Review/Approve previous Summary)

• Results of RTCA PMC Meeting March 22, 2007 on revisions to SC-202 TOR

• Update from Regulatory Agencies (FAA, UK-CAA, Canadian TSB, FCC, or others present)

• Update on EUROCAE Working Group WG58 Status

• Update on CEA activities, including the CEA Bulletin-Recommended Practice for T-PEDs

• Overview of Work on DO-YYY “Aircraft Design and Certification for Portable Electronic Device (PED) Tolerance”

• Update on Aircraft IPL Test Methods by WG5 Sub Group

• Update on Target IPL Values for aircraft design by WG5 IPL Sub Group

• Summary of PED Emissions Statistical Characterization by WG5-T-PED Characterization Sub Group

• Summary of Certification Aspects WG5 Certification Sub Group

• Working Group 5: Airplane Design and Certification Guidance

• Plan to complete remaining work, schedule and process for completion of open issues, recommendation to publish FRAC draft, identify any risks to completing final document at the July Plenary and proposed action to mitigate that risk

• Working Group 6: PED Spurious Emissions Recommendations Coordination

• Implementation Assessment (joint working group with CEA)

• Schedule and plan for dialog with CE manufactures

• Committee Discussion on Final Phase 2 Work Plan and Schedule for DO-YYY Document

• Committee Discussion on Final Phase 2 Work Plan and Schedule for DO-YYY Document

• Break-out Session for WG's Required

• WG5 Overall Document and Process—MacIntosh—NBAA & Hilton-ATA-Rooms

• WG6 PED Spurious Emissions Recommendation—ARINC Conference Room

• Sub Group on PED Statistical Analysis and Characterization—Small Conference Room

• Sub Groups on IPL Test—Colson Board Room

• Sub Group on Certification Aspect—Garmin Room

• April 19

• Chairman's Day 2 Opening Remarks and Process Check

• Final Overall Working Group Report

• Identification and Plan for Closure of Open Issues

• Remaining work plan and Schedule for Completion of DO-YYY

• Recommendation on publication of FRAC draft

• Working Group 5 Airplane Design and Certification Guidance recommendation for FRAC

• Working Group 6 PED Spurious Emissions Recommendations (reporting on plan for completion of recommendations coordination and implementation)

• Plenary Consensus on Plans to:

• DO-YYY Recommended Guidance for Airplane Design and Certification ready for FRAC

• WG6 plan to coordinate and implement PED Spurious Emissions Recommendations

• Closing Session (Other Business, Date and Place of Upcoming Meetings (Nineteenth Plenary at RTCA, July 23-27, 2007,)

• Complete Disposition of FRAC comments on draft Airplane Design & Guidance Recommendation draft

• Committee consensus to recommend publication of DO-YYY

• CEA/SC-202 Consenses Recommendation for implementation of SC-202 recommendation

• Plenary Session Tuesday & Thursday, WG Monday, Wednesday, Friday

• Adjourn to Break-out sessions for Working Groups if required and time permits

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 13, 2007.
Francisco Estrada C.,
RTCA Advisory Committee.

[FR Doc. 07-1343 Filed 3-20-07; 8:45 am]

BILLING CODE 4910-13-M